DEPARTMENT OF COMMERCE

Submission for OMB Review; Comment Request; Correction

Agency: International Trade Administration (ITA).

Title: Interim Procedures for Considering Requests from the Public under the Textile and Apparel Safeguard Provision of the United States-Korea Free Trade Agreement.

OMB Control Number: 0625-0269.

Type of Request: Regular Submission.

In the Federal Register of February 5, 2016, Vol. 81, No. 24, Page 6233-6234, under “Needs and Uses”, in paragraph 2 beginning with “The Statement of Administrative Action . . .”, eliminate the last sentence: “CITA was unable to publish these procedures earlier and is requesting an emergency review of the information collection and procedures from the Office of Management and Budget (OMB).”

Dated: February 19, 2016.
Glenna Mickelson,
Management Analyst, Office of the Chief Information Officer.

[FR Doc. 2016-03917 Filed 2-23-16; 8:45 am]

BILLING CODE 3510-FP-P